FEDERAL COMMUNICATIONS COMMISSION

[OMB 3060-0678]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before December 24, 2019. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at 202-418-2918.

SUPPLEMENTARY INFORMATION: OMB Control No.: 3060-0678.

Title: Part 25 of the Commission's Rules Governing the Licensing of, and Spectrum Usage by, Satellite Network Stations and Space Stations.

Form No: FCC Form 312, FCC Form 312-EZ, FCC Form 312-R and Schedules A, B and S.

Type of Review: Revision of a currently approved collection.

Respondents: Business or other for-profit entities and Not-for-profit institutions.

Number of Respondents: 6,524 respondents; 6,573 responses.

Estimated Time per Response: 0.5-80 hours.

Frequency of Response: On occasion, one time, and annual reporting requirements; third-party disclosure requirement; recordkeeping requirement.

Obligation to Respond: Required to obtain or retain benefits. The Commission has statutory authority for the information collection requirements under 47 U.S.C. 154, 301, 302, 303, 307, 309, 310, 319, 332, 605, and 721.

Total Annual Burden: 44,992 hours.

Total Annual Cost: $16,612,586.

Privacy Act Impact Assessment: No impact(s).

Nature and Extent of Confidentiality: There is no need for confidentiality pertaining to the information collection requirements in this collection.

Needs and Uses: On August 2, 2019, the Commission released a Report and Order, FCC 19-81, in IB Docket No. 18-86, titled “Streamlining Licensing Procedures for Small Satellites” (Small Satellite Report and Order). In this Report and Order, the Commission adopted a new alternative, optional licensing process for small satellites and spacecraft, called the “Part 25 streamlined small satellite process.” This new process allows qualifying applicants for small satellites and spacecraft to take advantage of an easier application process, a lower application fee, and a shorter timeline for review than currently exists for applicants under the Commission's existing Part 25 satellite licensing rules. The Commission limited the regulatory burdens borne by applicants, while promoting orbital debris mitigation and efficient use of spectrum. The Commission's action supports and encourages the increasing innovation in the small satellite sector and helps to preserve U.S. leadership in space-based services and operations. This information collection will provide the Commission and the public with necessary information about the operations of this growing area of satellite operations. While this information collection represents an overall increase in the burden hours, the increase is due to an anticipated overall increase in number of applications as a result of additional applications being filed under the streamlined process adopted in the Small Satellite Report and Order. This information collection represents a decrease in the paperwork burdens for individual operators of non-geostationary orbit (NGSO) satellites who may now qualify for streamlined processing as small satellites, and serves the public interest by streamlining the collection of information and allowing the Commission to authorize small satellites and spacecraft under the new process established in the Report and Order.

Specifically, FCC 19-81 contains new or modified information collection requirements listed below:

(1) Space station application requirements for qualifying small satellites and small spacecraft have been specified in new sections 25.122 and 25.123, respectively. These new sections, including the certifications, incorporate some existing information requirements from other sections, but eliminate the need for small satellite and spacecraft applicants to provide much of the information that part 25 space station applicants would typically be required to provide in narrative format under section 25.114(d). The new or modified informational requirements in sections 25.122 and 25.123 are listed as follows:

a. For small satellite applications filed under section 25.122, a certification that the space stations will operate in non-geostationary orbit, or for small spacecraft applications filed under section 25.123, a certification that the space station(s) will operate and be disposed of beyond Earth's orbit.

b. A certification that the total in-orbit lifetime for any individual space station will be six years or less.

c. For small satellite applications filed under 25.122, a certification that the space station(s) will either be deployed at an orbital altitude of 600 km or below, or will maintain a propulsions system and have the ability to make collision avoidance and deorbit maneuvers using propulsion. This certification will not apply to small spacecraft applications filed under section 25.123.

d. A certification that each space station will be identifiable by a unique signal-based telemetry marker distinguishing it from other space stations or space objects.

e. A certification that the space station(s) will release no operational debris.

f. A certification that the space station operator has assessed and limited the probability of accidental explosions resulting from the conversion of energy sources on board the space station(s) into energy that fragments the spacecraft.

g. A certification that the probability of a collision between each space station and any other large object (10 centimeters or larger) during the orbital lifetime of the space station is 0.001 or less as calculated using current NASA software or other higher fidelity model.

h. For small satellite applications filed under section 25.122, a certification that the space station(s) will be disposed of through atmospheric re-entry, and that the probability of human casualty from portions of the spacecraft surviving re-entry and reaching the surface of the Earth is zero as calculated using current NASA software or higher fidelity models. This certification will not apply to small spacecraft applications filed under section 25.123.

i. A certification that operations of the space station(s) will be compatible with existing operations in the authorized frequency band(s) and will not materially constrain future space station entrants from using the authorized frequency bands.

j. A certification that the space station(s) can be commanded by command originating from the ground to immediately cease transmissions and the licensee will have the capability to eliminate harmful interference when required under the terms of the license or other applicable regulations.

k. A certification that each space station is 10 cm or larger in its smallest dimension.

l. For small satellite applications filed under section 25.122, a certification that each space station will have a mass of 180 kg or less, including any propellant. For small spacecraft applications filed under section 25.123, a certification that each space station will have a mass of 500 kg of less, including any propellant.

m. A description of means by which requested spectrum could be shared with both current and future operators (e.g., how ephemeris data will be shared, antenna design, earth station geographic locations) thereby not materially constraining other operations in the requested frequency bands.

n. For space stations with any means of maneuverability, including both active and passive means, a description of the design and operation of maneuverability and deorbit systems, and a description of the anticipated evolution over time of the orbit of the proposed satellite or satellites.

o. In any instances where spacecraft capable of having crew aboard will be located at or below the deployment orbital altitude of the space station seeking a license, a description of the design and operational strategies that will be used to avoid in-orbit collision with such crewed spacecraft shall be furnished at the time of application. This narrative requirement will not apply to space stations that will operate beyond Earth's orbit.

p. A list of the FCC file numbers or call signs for any known applications or Commission grants related to the proposed operations (e.g., experimental license grants, other space station or earth station applications or grants).

(2) The informational requirements listed in section 25.137 for requests for U.S.-market access through non-U.S.-licensed space stations were also modified to refer to sections 25.122 and 25.123, for those applicants seeking U.S. market access under the small satellite or spacecraft process.

This collection is also used by staff in carrying out United States treaty obligations under the World Trade Organization (WTO) Basic Telecom Agreement. The information collected is used for the practical and necessary purposes of assessing the legal, technical, and other qualifications of applicants; determining compliance by applicants, licensees, and other grantees with Commission rules and the terms and conditions of their grants; and concluding whether, and under what conditions, grant of an authorization will serve the public interest, convenience, and necessity.

As technology advances and new spectrum is allocated for satellite use, applicants for satellite service will continue to submit the information required in 47 CFR part 25 of the Commission's rules. Without such information, the Commission could not determine whether to permit respondents to provide telecommunication services in the United States. Therefore, the Commission would be unable to fulfill its statutory responsibilities in accordance with the Communications Act of 1934, as amended, and the obligations imposed on parties to the WTO Basic Telecom Agreement.

Federal Communications Commission.
Marlene Dortch,
Secretary, Office of the Secretary.

[FR Doc. 2019-23333 Filed 10-24-19; 8:45 am]

BILLING CODE 6712-01-P